DEPARTMENT OF ENERGY

Federal Energy Regulatory Commission

[Docket Nos. IC20-23-000 and RD20-9-000]

Commission Information Collection Activities (FERC-725R); Comment Request; Revision

AGENCY: Federal Energy Regulatory Commission.

ACTION: Notice of revised information collection and request for comments.

SUMMARY: In compliance with the requirements of the Paperwork Reduction Act of 1995, the Federal Energy Regulatory Commission (Commission or FERC) is soliciting public comment on the renewal with revisions of currently approved FERC-725R (Mandatory Reliability Standards: BAL Reliability Standards). The Commission is submitting FERC-725R with revisions to the Office of Management and Budget (OMB) for review. Any interested person may file comments directly with OMB and should address a copy of those comments to the Commission as explained below.

DATES: Comments on the collection of information are due January 28, 2021.

ADDRESSES: Send written comments on FERC-725R, as revised, to OMB through www.reginfo.gov/public/do/PRAMain, Attention: Federal Energy Regulatory Commission Desk Officer. Please identify the OMB control number (1902-0268) in the subject line. Your comments should be sent within 30 days of publication of this notice in the Federal Register.

Please submit copies of your comments to the Commission (identified by Docket Nos. IC20-23-000 and RD20-9-000) by one of the following methods:

• eFiling at Commission's Website: http://www.ferc.gov/docs-filing/efiling.asp.

• U.S. Postal Service Mail: Persons unable to file electronically may mail similar pleadings to the Federal Energy Regulatory Commission, 888 First Street NE, Washington, DC 20426.

• Effective July 1, 2020, delivery of filings other than by eFiling or the U.S. Postal Service should be delivered to Health and Human Services, 12225 Wilkins Avenue, Rockville, Maryland 20852.

Instructions

OMB submissions must be formatted and filed in accordance with submission guidelines at www.reginfo.gov/public/do/PRAMain; Using the search function under the “Currently Under Review field,” select Federal Energy Regulatory Commission; click “submit” and select “comment” to the right of the subject collection.

FERC submissions must be formatted and filed in accordance with submission guidelines at: http://www.ferc.gov. For user assistance, contact FERC Online Support by email at ferconlinesupport@ferc.gov, or by phone at: (866) 208-3676 (toll-free).

Docket: Users interested in receiving automatic notification of activity in this docket or in viewing/downloading comments and issuances in this docket may do so at http://www.ferc.gov.

FOR FURTHER INFORMATION CONTACT: Ellen Brown may be reached by email at DataClearance@FERC.gov and telephone at (202) 502-8663.

SUPPLEMENTARY INFORMATION:

Title: FERC-725R, Mandatory Reliability Standards: BAL Reliability Standards.

OMB Control No.: 1902-0268.

Type of Request: Three-year request for renewal with revisions of the FERC-725R information collection (IC) requirements.

Abstract: On August 8, 2005, Congress enacted into law the Electricity Modernization Act of 2005, which is Title XII, Subtitle A, of the Energy Policy Act of 2005 (EPAct 2005).¹ EPAct 2005 added a new section 215 to the Federal Power Act (FPA), which requires a Commission-certified Electric Reliability Organization (ERO) to develop mandatory and enforceable Reliability Standards, which are subject to Commission review and approval. Once approved, the Reliability Standard may be enforced by the ERO subject to Commission oversight, or the Commission may independently enforce Reliability Standards.²

¹ Energy Policy Act of 2005, Public Law 109-58, Title XII, Subtitle A, 119 Stat. 594, 941 (codified at 16 U.S.C. 824o).

² 16 U.S.C. 824o(e)(3).

On February 3, 2006, the Commission issued Order No. 672, implementing section 215 of the FPA.³ Pursuant to Order No. 672, the Commission certified one organization, the North American Electric Reliability Corporation (NERC), as the ERO.⁴ The Reliability Standards developed by the ERO and approved by the Commission apply to users, owners and operators of the Bulk-Power System as set forth in each Reliability Standard.

³ Rules Concerning Certification of the Electric Reliability Organization; and Procedures for the Establishment, Approval, and Enforcement of Electric Reliability Standards, Order No. 672, FERC Stats. & Regs. ¶ 31,204, order on reh'g, Order No. 672-A, FERC Stats. & Regs. ¶ 31,212 (2006).

⁴ North American Electric Reliability Corp., 116 FERC ¶ 61,062, order on reh'g and compliance, 117 FERC ¶ 61,126 (2006), order on compliance, 118 FERC ¶ 61,190, order on reh'g, 119 FERC ¶ 61,046 (2007), aff'd sub nom. Alcoa Inc. v. FERC, 564 F.3d 1342 (D.C. Cir. 2009).

Information Collection Components Not Affected by Docket No. RD20-9-000

On August 28, the Commission published a notice that it is seeking renewal of FERC-725R (85 FR 53358). The Commission invited public comments, but received none. At present, FERC-725R includes the following nation-wide Reliability Standards that would not be affected by Docket No. RD20-9-000: ⁵

⁵ There are also regional BAL Reliability Standards. They are not included in FERC-725R and are not discussed here. The regional BAL Reliability Standards are covered under other OMB Control Nos.

• BAL-001-2,⁶ Real Power Balancing Control Performance. Reliability Standard BAL-001-2 is designed to ensure that applicable entities balance generation and load by maintaining system frequency within narrow bounds around a scheduled value, and it improves reliability by adding a frequency component to the measurement of a Balancing Authority's Area Control Error (ACE).⁷

⁶ It was approved in Docket No. RM14-10.

⁷ Area Control Error is the “instantaneous difference between a Balancing Authority's net actual and scheduled interchange, taking into accounts the effects of Frequency Bias, correction for meter error, and Automatic Time Error Correction (ATEC), if operating in the ATEC mode. ATEC is only applicable to Balancing Authorities in the Western Interconnection.” NERC Glossary.

• BAL-002-3,⁸ Disturbance Control Standard—Contingency Reserve for Recovery from a Balancing Contingency Event. This standard ensures that a responsible entity, either a balancing authority or reserve sharing group, is able to recover from system contingencies by deploying adequate reserves to return their Area Control Error to defined values and replacing the capacity and energy lost due to generation or transmission equipment outages.

⁸ It was approved in Docket No. RD18-7.

• BAL-005-1,⁹ Balancing Authority Control. This standard establishes requirements for acquiring data necessary to calculate Reporting Area Control Error (Reporting ACE). The standard also specifies a minimum periodicity, accuracy, and availability requirement for acquisition of the data and for providing the information to the System Operator. It requires balancing authorities to maintain minimum levels of annual availability of 99.5% for each balancing authority system for calculating Reporting ACE.

⁹ It was approved in Docket No. RM16-13.

Information Collection Components Affected by Docket No. RD20-9-000

On December 19, 2019, NERC submitted a petition seeking Commission approval for proposed Reliability Standard BAL-003-2. On May 20, 2020, the Commission noticed the petition in Docket No. RD20-9-000. Interventions, comments, and protests were due on or before June 29, 2020. None were received. The Commission approved Reliability Standard BAL-003-2 on July 15, 2020 in a Delegated Letter Order (DLO).¹⁰

¹⁰ The DLO is posted in eLibrary at http://elibrary.ferc.gov/idmws/common/OpenNat.asp?fileID=15585069.

On August 26, 2020, the Commission published a notice of revision of FERC-725R in Docket No. RD20-9-000 (85 FR 52584). The Commission received no comments in response to the notice of revision. The Commission now seeks renewal of FERC-725R with the revisions that the Commission has approved in Docket No. RD20-9-000.

Type of Respondent: Balancing Authorities, Response Sharing Group, and Frequency Response Sharing Group.

Estimate of Annual Burden: ¹¹ Our estimate of the number of respondents affected is based on the NERC Compliance Registry as of July 17, 2020.¹² According to the Compliance Registry, NERC has registered 97 Balancing Authorities (BA), 11 Response Sharing Groups (RSG), and 1 Frequency Response Sharing Group (FRSG) within the United States, as noted. The burden estimates reflect the number of affected entities for each standard. Estimates for the average annual burden and cost ¹³ follow.

¹¹ “Burden” is the total time, effort, or financial resources expended by persons to generate, maintain, retain, or disclose or provide information to or for a Federal agency. For further explanation of what is included in the information collection burden, refer to 5 CFR 1320.3.

¹² NERC Compliance Registry (July 17, 2020), available at https://www.nerc.com/pa/comp/Registration%20and%20Certification%20DL/NERC_Compliance_Registry_Matrix_Excel.xlsx.

¹³ The hourly cost estimates are based on wage data from the Bureau of Labor Statistics for May 2019 (at https://www.bls.gov/oes/current/naics2_22.htm) and benefits data for Dec. 2019 (issued March 2020, at https://www.bls.gov/news.release/ecec.nr0.htm). For reporting requirements, the estimated hourly cost is $70.19, based on the wages and benefits for Occupation Code 17-2071 (Electrical Engineer). For recordkeeping requirements, the estimated hourly cost is $41.03, based on the wages and benefits for Occupation Code 43-4199 (Information and Record Clerk).

FERC-725R, as Revised by RD20-9
Function | Number & type of respondents | Number of annual responses per respondent | Total number of annual responses | Average burden hours & cost ($) per response | Total annual burden hours & total annual cost ($)
| (1) | (2) | (1) × (2) = (3) | (4) | (3) × (4) = (5)
BAL-001-2
BA Reporting Requirements | 97 | 1 | 97 | 8 hrs.; $561.52 | 776 hrs.; $54,467.44.
BA Recordkeeping Requirements | 97 | 1 | 97 | 4 hrs.; $164.12 | 388 hrs.; $15,919.64.
BAL-002-3
BA & RSG Reporting Requirements | 108 | 1 | 108 | 8 hrs.; $561.52 | 864 hrs.; $60,644.16.
BA & RSG Recordkeeping Requirements | 108 | 1 | 108 | 4 hrs.; $164.12 | 432 hrs.; $17,724.96.
BAL-003-2 (as approved in Docket No. RD20-9-000)
BA & FRSG Reporting Requirements | 98 | 28 | 2,744 | 8 hrs.; $561.52 | 21,952 hrs.; $1,540,810.88.
BA & FRSG Recordkeeping Requirements | 98 | 1 | 98 | 2 hrs.; $82.06 | 196 hrs.; $8,041.88.
BAL-005-1
BA Reporting Requirements | 97 | 1 | 97 | 1 hr.; $70.19 | 97 hrs.; $6,808.43.
BA Recordkeeping Requirements | 97 | 1 | 97 | 1 hr.; $41.03 | 97 hrs.; $3,979.91.
Sub-Total for Reporting Requirements |  |  |  |  | 23,689 hrs.; $1,662,730.91.
Sub-Total for Recordkeeping Requirements |  |  |  |  | 1,113 hrs.; $45,666.39.
Total for Ferc-725R (rounded) |  |  |  |  | 24,802 hrs.; $1,708,397.30.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collr.ection techniques or other forms of information technology.

Dated: December 21, 2020.
Kimberly D. Bose,
Secretary.

[FR Doc. 2020-28716 Filed 12-28-20; 8:45 am]

BILLING CODE 6717-01-P